DEPARTMENT OF HOMELAND SECURITY

Customs and Border Protection

19 CFR Part 123

Required Advance Electronic Presentation of Cargo Information: Compliance Dates for Truck Carriers

AGENCY: Customs and Border Protection, DHS.

ACTION: Announcement of compliance dates.

SUMMARY: This document informs truck carriers when they will be required to transmit advance electronic cargo information to Customs and Border Protection regarding cargo they are bringing into the United States, as mandated by section 343(a) of the Trade Act of 2002 and the implementing regulations. The dates when truck carriers will be required to comply vary depending on the port of entry at which the truck carrier will be arriving in the United States.

DATES: The implementation schedule set forth in the SUPPLEMENTARY INFORMATION discussion specifies three compliance dates, depending on the location of the port of entry.

FOR FURTHER INFORMATION CONTACT: For questions concerning Inbound Truck Cargo: James Swanson, Field Operations, (202) 344-2576.

SUPPLEMENTARY INFORMATION:

Background

Section 343(a) of the Trade Act of 2002, as amended (the Act; 19 U.S.C. 2071 note), required that Customs and Border Protection (CBP) promulgate regulations providing for the mandatory collection of electronic cargo information, by way of a CBP-approved electronic data interchange system, before the cargo is brought into or departs the United States by any mode of commercial transportation (sea, air, rail or truck). The cargo information required is that which is reasonably necessary to enable high-risk shipments to be identified for purposes of ensuring cargo safety and security and preventing smuggling pursuant to the laws enforced and administered by CBP.

On December 5, 2003, CBP published in the Federal Register(68 FR 68140) a final rule intended to effectuate the provisions of the Act. In particular, a new § 123.92 (19 CFR 123.92) was added to the CBP Regulations to implement the inbound truck cargo provisions of the Act's provisions. Section 123.92 describes the general requirement that for any inbound truck required to report its arrival under § 123.1(b), that will have commercial cargo aboard, CBP must electronically receive certain information regarding that cargo through a CBP-approved electronic data interchange (EDI) system no later than 1 hour prior to the carrier's reaching the first port of arrival in the United States. For truck carriers arriving with shipments qualified for clearance under the FAST (Free and Secure Trade) program, CBP must electronically receive such cargo information through the CBP-approved EDI system no later than 30 minutes prior to the carrier's reaching the first port of arrival in the United States.

To effect the advance electronic transmission of the required truck cargo information to CBP, CBP has approved two interim EDI systems, for use until the Automated Commercial Environment Truck Manifest becomes fully operational. The two systems are the Pre-Arrival Processing System (PAPS) and QP/WP (an Automated Broker Interface (ABI) in-bond processing system that allows ABI filers to create and process in-bond shipments).

Truck carriers bringing commercial cargo subject to advance cargo information requirements into the United States must use one of the two interim EDI systems described above, with the two exceptions set forth below in the CAFES AND BRASS EXCEPTION portion of this document.

All commercial cargo is subject to advance cargo information requirements, pursuant to § 123.92(b), except for the following:

(1) Cargo in transit from point to point in the United States. Domestic cargo transported by truck and arriving at one port from another in the United States after transiting Canada or Mexico (§ 123.21; § 123.41); and

(2) Certain informal entries:

(i) Merchandise which is informally entered on Customs Form (CF) 368 or CF 368 A (cash collection or receipt);

(ii) Merchandise unconditionally or conditionally free, not exceeding $2000 in value, eligible for entry on CF 7523; and

(iii) Products of the United States being returned, for which entry is prescribed on CF 3311.

It should be noted that upon final implementation of the Truck Manifest module of the Automated Commercial Environment, the exempted information described in (2) above will be transmitted electronically in advance of cargo arrival in order to expedite release and processing.

It is further noted that § 123.92(c)(2) allows a United States importer, or its customs broker, to elect to present to CBP a portion of the required information that it possesses in relation to the cargo. Under such circumstance, the truck carrier is responsible for presenting to CBP the remainder of the required cargo information.

CAFES and BRASS Exceptions

As a temporary accommodation, CBP will not require either of the CBP-approved EDI systems to be used if the merchandise transported by the truck carrier is currently approved for processing under the Customs Automated Forms Entry System (CAFES) or the Border Release Advanced Screening and Selectivity (BRASS) programs. Under the BRASS program, the following conditions must be met:

(1) The importer and shipper involved in the transaction are current BRASS participants (as of the date of publication of this notice);

(2) The importer and shipper have engaged in a minimum number of BRASS import transactions during the previous calendar year. The minimum number is currently 50, but CBP retains the right to change this number as a matter of policy. Any policy changes regarding the minimum number of BRASS transactions will be communicated by the CBP BRASS Processing Center or through Port Information Notices;

(3) The truck carrier carrying the merchandise only utilizes drivers who are registered under the Free and Secure Trade (FAST) program and carrying a FAST Driver Card. This requirement does not apply at the ports of Eastport, Idaho; International Falls, Minnesota; Grand Portage, Minnesota; and Jackman, Maine, where FAST Driver Cards are not available. This requirement will apply at these ports when CBP publishes a Federal Register notice announcing that CBP is ready to register FAST drivers at these geographic locations; and

(4) For processing along the southern border, the truck carrier participates in an approved industry partnership program, such as C-TPAT (Customs-Trade Partnership Against Terrorism).

Implementation of Advance Electronic Information Requirements

Section 123.92(e) requires CBP, 90 days prior to mandating advance electronic information at a port of entry, to publish notice in the Federal Register informing affected carriers that the EDI system is in place and fully operational. Accordingly, in this document, CBP is notifying truck carriers when they will be required to present advance electronic cargo information regarding cargo arriving at particular ports of entry in the United States through a CBP-approved EDI system. The implementation schedule will be staggered in three phases.

The above-described interchange systems are now in place and operational at the forty ports of entry listed in the “Compliance Dates” section of this document, under the caption “First Implementation”. Truck carriers, which will first arrive in the United States at these ports, will be required, 90 days from the date of publication of this notice in the Federal Register, to comply with the advance electronic transmission requirements set forth in § 123.92, CBP Regulations.

Two additional implementations are scheduled for the remaining ports. Consistent with the provision in § 123.92(e) that requires CBP to announce when ports are fully operational, CBP is announcing by this document that the remaining fifty-nine ports listed in the second and third phases of implementation will become fully operational at least 90 days before truck carriers are required to transmit advance electronic information to CBP at those ports. The schedule for implementing the advance electronic transmission requirements at all ninety-nine ports is summarized below in the “Compliance Dates” section.

Compliance Dates

First Implementation

Effective November 15, 2004, truck carriers must commence the advance electronic transmission to CBP of required cargo information for inbound cargo at the following forty ports of entry (corresponding port code and field office location appear in parenthesis next to port location):

(1) Buffalo, NY (0901, Buffalo);

(2) Alexandria Bay, NY (0708, Buffalo);

(3) Ogdensburg, NY (0701, Buffalo);

(4) Massena, NY (0704, Buffalo);

(5) Detroit, MI (3801, Detroit);

(6) Port Huron, MI (3802, Detroit);

(7) Sault Ste. Marie, MI (3803, Detroit);

(8) Algonac, MI (3814, Detroit);

(9) Blaine, WA (3004, Seattle);

(10) Sumas, WA (3009, Seattle);

(11) Lynden, WA (3023, Seattle);

(12) Oroville, WA (3019, Seattle);

(13) Frontier, WA (3020, Seattle);

(14) Laurier, WA (3016, Seattle);

(15) Point Roberts, WA (3017, Seattle);

(16) Danville, WA (3012, Seattle);

(17) Ferry, WA (3013, Seattle);

(18) Metaline Falls, WA (3025, Seattle);

(19) Laredo, TX (2304, Laredo);

(20) Eagle Pass, TX (2303, Laredo);

(21) Brownsville, TX (2301, Laredo);

(22) Progresso, TX (2309, Laredo);

(23) Del Rio, TX (2302, Laredo);

(24) Hidalgo/Pharr, TX (2305, Laredo);

(25) Roma, TX (2310, Laredo);

(26) Rio Grande City, TX (2307, Laredo);

(27) El Paso, TX (2402, El Paso);

(28) Presidio, TX (2403, El Paso);

(29) Fabens, TX (2404, El Paso);

(30) Columbus, NM (2406, El Paso);

(31) Santa Teresa, NM (2408, El Paso);

(32) Douglas, AZ (2601, Tucson);

(33) Lukeville, AZ (2602, Tucson);

(34) Naco, AZ (2603, Tucson);

(35) Nogales, AZ (2604, Tucson);

(36) Sasabe, AZ (2606, Tucson);

(37) San Luis, AZ (2608, Tucson);

(38) Tecate, CA (2505, San Diego);

(39) Calexico, CA (2507, San Diego);

(40) Otay Mesa, CA (2506, San Diego).

Second Implementation

Effective December 15, 2004, truck carriers must commence the advance electronic transmission to CBP of required cargo information for inbound cargo at the following forty-three ports of entry:

(41) Champlain, NY (0712, Buffalo);

(42) Trout River, NY (0715, Buffalo);

(43) Pembina, ND (3401, Seattle);

(44) Noyes, MN (3402, Seattle);

(45) Portal, ND (3403, Seattle);

(46) Neche, ND (3404, Seattle);

(47) St. John, ND (3405, Seattle);

(48) Northgate, ND (3406, Seattle);

(49) Walhalla, ND (3407, Seattle);

(50) Hannah, ND (3408, Seattle);

(51) Sarles, ND (3409, Seattle);

(52) Ambrose, ND (3410, Seattle);

(53) Antler, ND (3413, Seattle);

(54) Sherwood, ND (3414, Seattle);

(55) Hansboro, ND (3415, Seattle);

(56) Maida, ND (3416, Seattle);

(57) Fortuna, ND (3417, Seattle);

(58) Westhope, ND (3419, Seattle);

(59) Noonan, ND (3420, Seattle);

(60) Carbury, ND (3421, Seattle);

(61) Dunseith, ND (3422, Seattle);

(62) Warroad, MN (3423, Seattle);

(63) Baudette, MN (3424, Seattle);

(64) Pine Creek, MN (3425, Seattle);

(65) Roseau, MN (3426, Seattle);

(66) International Falls, MN (3604, Seattle);

(67) Grand Portage, MN (3613, Seattle);

(68) Richford, VT (0203, Boston);

(69) Derby Line, VT (0209, Boston);

(70) Norton, VT (0211, Boston);

(71) Beecher Falls, VT (0206, Boston);

(72) Highgate Springs, VT (0212, Boston);

(73) Houlton, ME (0106, Boston);

(74) Bridgewater, ME (0127, Boston);

(75) Fort Fairfield, ME (0107, Boston);

(76) Limestone, ME (0118, Boston);

(77) Van Buren, ME (0108, Boston);

(78) Madawaska, ME (0109, Boston);

(79) Fort Kent, ME (0110, Boston);

(80) Calais, ME (0115, Boston);

(81) Vanceboro, ME (0105, Boston);

(82) Eastport/Lubec, ME (0103, Boston);

(83) Jackman, ME (0104, Boston).

Third Implementation

Effective January 14, 2005, truck carriers must commence the advance electronic transmission to CBP of required cargo information for inbound cargo at the following sixteen ports of entry:

(84) Eastport, ID (3302, Seattle);

(85) Porthill, ID (3308, Seattle);

(86) Sweetgrass, MT (3310, Seattle);

(87) Raymond, MT (3301, Seattle);

(88) Turner, MT (3306, Seattle);

(89) Scobey, MT (3309, Seattle);

(90) Whitetail, MT (3312, Seattle);

(91) Piegan, MT (3316, Seattle);

(92) Opheim, MT (3317, Seattle);

(93) Roosville, MT (3318, Seattle);

(94) Morgan, MT (3319, Seattle);

(95) Whitlash, MT (3321, Seattle);

(96) Del Bonita, MT (3322, Seattle);

(97) Alcan, AK (3104, Portland);

(98) Skagway, AK (3103, Portland);

(99) Dalton Cache, AK (3106, Portland).

Dated: August 12, 2004.
Robert C. Bonner,
Commissioner, Customs and Border Protection.

[FR Doc. 04-18818 Filed 8-16-04; 8:45 am]

BILLING CODE 4820-02-P